DEPARTMENT OF AGRICULTURE

Forest Service

Shasta County Resource Advisory Committee

AGENCY: Forest Service, USDA.

ACTION: Notice of meeting.

SUMMARY: The Shasta County Resource Advisory Committee (RAC) will meet at the USDA Service Center in Redding, California, on September 1, 2010 beginning at 8:30 a.m. The meeting will consist of an update on Shasta County projects, RAC recommended project progress, as well as changes made to projects to meet RAC funding 2010/2011 allocations.

DATES: Wednesday, September 1, 2010 at 8:30 a.m.

ADDRESSES: The meeting will be held at the USDA Service Center, 3644 Avtech Parkway, Redding, California 96002.

FOR FURTHER INFORMATION CONTACT: Resource Advisory Committee Coordinator Rita Vollmer at (530) 226-2595 or rvollmer@fs.fed.us.

SUPPLEMENTARY INFORMATION: The meeting is open to the public. Public input sessions will be provided and individuals will have the opportunity to address the Shasta County Resource Advisory Committee.

J. Sharon Heywood,
Forest Supervisor, Shasta-Trinity National Forest.

[FR Doc. 2010-20685 Filed 8-20-10; 8:45 am]

BILLING CODE 3410-11-M